DEPARTMENT OF ENERGY

Federal Energy Regulatory Commission

[Project No. 7883-020]

Powerhouse Systems, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent License.

b. Project No.: 7883-020.

c. Date filed: October 2, 2023.

d. Applicant: Powerhouse Systems, Inc.

e. Name of Project: Weston Dam Project.

f. Location: On the Upper Ammonoosuc River, Coos County, New Hampshire.

g. Filed Pursuant to: Federal Power Act 16 U.S.C. 791(a)-825(r).

h. Applicant Contact: Jonathon DiCesare, Regulatory Manager, Powerhouse Systems, Inc., 230 Park Avenue, Suite 307, New York, New York 10017; Phone at (518) 657-9012 or email at jd@elevatepower.com; or Ian Clark, CCO, Powerhouse Systems, Inc., 230 Park Avenue, Suite 307, New York, New York 10017; Phone at (518) 657-9012 or email at ic@elevatepower.com.

i. FERC Contact: John Baummer at (202) 502-6837, or john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 1, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The existing Weston Dam Project consists of the following: (1) a 220-foot-long, 15.5-foot-high concrete-covered stone and timber crib dam (Weston Dam) with four hydraulic sluice gates and a concrete cap spillway topped with 4.5-foot-high wooden flashboards with a crest elevation of 867.7 feet National Geodetic Vertical Datum of 1929 (NGVD 29) at the top of the flashboards; (2) an impoundment with a surface area of 30 acres and a storage capacity of 115 acre-feet at an elevation of 867.7 feet; (3) an intake structure; (4) a powerhouse with two Kaplan turbine-generator units with an authorized installed capacity of 540 kilowatts; (5) two 0.48 kilovolt (kV) generator leads; (6) three 0.48/34.5-kV transformers; (7) a 34.5-kV, 300-foot-long transmission line; and (8) appurtenant facilities.

The project operates in a run-of-river mode with a minimum flow of 132 cubic feet per second, or inflow, whichever is less. The project has an average annual generation of 2,357 megawatt-hours between 2013 and 2022.

Powerhouse Systems, Inc. is not proposing any changes to project facilities or operation.

o. Copies of the application may be viewed on the Commission's website at http://www.ferc.gov using the “eLibrary” link. Enter the docket number excluding the last three digits in the docket number field to access the document (P-7883). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Issue Deficiency Letter (if necessary)—December 2023

Request Additional Information—January 2024

Issue Acceptance Letter—March 2024

Issue Scoping Document 1 for comments—March 2024

Request Additional Information (if necessary)—April 2024

Issue Scoping Document 2 (if necessary)—May 2024.

Issue Notice of Ready for Environmental Analysis—May 2024

Final amendments to the application must be filed with the Commission no later than 30 days from the issuance date of the notice of ready for environmental analysis.

Dated: October 12, 2023.
Kimberly D. Bose,
Secretary.

[FR Doc. 2023-22986 Filed 10-17-23; 8:45 am]

BILLING CODE 6717-01-P